NUCLEAR REGULATORY COMMISSION

[NRC-2015-0251]

Final Guidance Documents for Subsequent License Renewal

AGENCY: Nuclear Regulatory Commission.

ACTION: NUREG; issuance.

SUMMARY: The U.S. Nuclear Regulatory Commission (NRC) is issuing final NUREG-2191, “Generic Aging Lessons Learned for Subsequent License Renewal (GALL-SLR) Report,” Vol. 1 and Vol. 2, and NUREG-2192, “Standard Review Plan for Review of Subsequent License Renewal Applications for Nuclear Power Plants” (SRP-SLR). These final documents describe methods acceptable to the NRC staff for granting a subsequent license renewal in accordance with the license renewal regulations, as well as techniques that will be used by the NRC staff in evaluating applications for subsequent license renewal.

DATES: July 14, 2017.

ADDRESSES: Please refer to Docket ID NRC-2015-0251 when contacting the NRC about the availability of information regarding this document. You may obtain publicly-available information related to this document using any of the following methods:

• Federal Rulemaking Web site: Go to http://www.regulations.gov and search for Docket ID NRC-2015-0251. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The “Generic Aging Lessons Learned for Subsequent License Renewal (GALL-SLR) Report,” Vol. 1.; “Generic Aging Lessons Learned for Subsequent License Renewal (GALL-SLR) Report,” Vol. 2, and the “Standard Review Plan for Review of Subsequent License Renewal Applications for Nuclear Power Plants” (SRP-SLR) are available in ADAMS under Accession Nos. ML17187A031, ML17187A204 and ML17188A158, respectively.

• NRC's PDR: You may examine and purchase copies of public documents at the NRC's PDR, Room O1-F21, One White Flint North, 11555 Rockville Pike, Rockville, Maryland 20852.

FOR FURTHER INFORMATION CONTACT: Bennett Brady, telephone: 301-415-2981, email: Bennett.Brady@nrc.gov or Sheldon Stuchell, telephone: 301-415-1213, email: Sheldon.Stuchell@nrc.gov; both are staff of the Office of Nuclear Reactor Regulation, U.S. Nuclear Regulatory Commission, Washington DC 20555-0001.

SUPPLEMENTARY INFORMATION:

I. Discussion

The Atomic Energy Act (AEA) of 1954, as amended, authorizes the NRC to issue 40-year initial licenses and upon application and approval, subsequently renew licenses for nuclear power reactors. The NRC's regulations permit these licenses to be renewed beyond the initial 40-year term for an additional period of time, limited to 20-year increments per renewal, based on the outcome of an assessment to determine if the nuclear facility can continue to operate safely during the period of extended operation. There are no limitations in the AEA or the NRC's regulations restricting the number of times a license may be renewed.

The nuclear power industry has sent letters of intent to apply for subsequent license renewals in fiscal years 2018 and 2019. Subsequent License Renewal is a term referring to all license renewals allowing a plant to operate beyond the 60-year period (40-year of an initial operating license and a 20-year period of the first license renewal). Based on a survey conducted by the nuclear power industry and provided to the NRC, the NRC staff believes that additional applications for subsequent license renewal will be submitted in future years.

The NRC developed guidance for licensees that intend to apply for subsequent license renewal. The guidance documents for first license renewal (i.e., for operation from 40 to 60 years), the Generic Aging Lessons Learned Report, Revision 2 (GALL Report Rev. 2, ADAMS Accession No. ML103490041), and the Standard Review Plan for Review of License Renewal Applications, Revision 2 (SRP-LR Rev. 2, ADAMS Accession No. ML103490036) were revised to reflect aging differences for increased operating time from 60 to 80 years. The guidance was also revised to consider new operating experience and provide information identified as missing since the release of GALL Report Rev. 2. The GALL-SLR Report and SRP-SLR also include changes that have been previously issued for public comment as part of the staff's license renewal Interim Staff Guidance (ISG) process. These ISGs can be found at http://www.nrc.gov/reading-rm/doc-collections/isg/license-renewal.html. These ISGs (ML12286A275, ML11297A085, ML12138A296, ML12270A436, ML12044A215, ML12352A057, ML13227A361, ML15308A018, and ML16237A383) have been incorporated into the GALL-SLR Report and the associated sections of the SRP-SLR. The NRC has previously received public comments on these ISGs, and is not requesting additional comments.

A notice of availability, requesting comment on the draft Guidance Documents was published in the Federal Register on December 23, 2015 (80 FR 79956). The public comment period ended on February 29, 2016. The NRC received 508 comments on these draft guidance documents. The NRC also published a supplement to the draft guidance documents in the Federal Register on March 29, 2016 (81 FR 17500). The public comment period ended on May 31, 2016. The NRC reviewed and dispositioned all of the comments and is publishing the disposition of the comments and the technical bases for their disposition in companion NUREGs. The NRC's resolution of these comments are incorporated into the final subsequent license renewal guidance documents.

II. Congressional Review Act

This NUREG is a rule as defined in the Congressional Review Act (5 U.S.C. 801-808). However, the Office of Management and Budget has not found it to be a major rule as defined in the Congressional Review Act.

Dated at Rockville, Maryland, this 7th day of July 2017.
For the Nuclear Regulatory Commission.
George A. Wilson Jr.,
Director, Division of License Renewal, Office of Nuclear Reactor Regulation.

[FR Doc. 2017-14747 Filed 7-13-17; 8:45 am]

BILLING CODE 7590-01-P